DEPARTMENT OF TRANSPORTATION

National Highway Traffic Safety Administration

[Docket No. NHTSA-2004-17179]

Notice of Receipt of Petition for Decision That Nonconforming 2000 Land Rover Discovery Multipurpose Passenger Vehicles Are Eligible for Importation

AGENCY: National Highway Traffic Safety Administration, DOT.

ACTION: Notice of receipt of petition for decision that nonconforming 2000 Land Rover Discovery multipurpose passenger vehicles (MPVs) are eligible for importation.

SUMMARY: This document announces receipt by the National Highway Traffic Safety Administration (NHTSA) of a petition for a decision that 2000 Land Rover Discovery MPVs that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is March 29, 2004.

ADDRESSES: Comments should refer to the docket number and notice number, and be submitted to: Docket Management, Room PL-401, 400 Seventh St., SW., Washington, DC 20590. (Docket hours are from 9 a.m. to 5 p.m.). Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA, 202-366-3151.

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle of the same model year that was originally manufactured for importation into and sale in the United States and certified under 49 U.S.C. 30115, and that the vehicle is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Eurosport Motorcars, Inc. of Cape Coral, Florida (“EMI”) (Registered Importer 01-291) has petitioned NHTSA to decide whether 2000 Land Rover Discovery MPVs are eligible for importation into the United States. The vehicles that EMI believes are substantially similar are 2000 Land Rover Discovery MPVs that were manufactured for importation into, and sale in, the United States and certified by their manufacturer as conforming to all applicable Federal motor vehicle safety standards.

The petitioner claims that it carefully compared non-U.S. certified 2000 Land Rover Discovery MPVs to their U.S.-certified counterparts, and found the vehicles to be substantially similar with respect to compliance with most Federal motor vehicle safety standards.

EMI submitted information with its petition intended to demonstrate that non-U.S. certified 2000 Land Rover Discovery MPVs, as originally manufactured, conform to many Federal motor vehicle safety standards in the same manner as their U.S. certified counterparts, or are capable of being readily altered to conform to those standards.

Specifically, the petitioner claims that non-U.S. certified 2000 Land Rover Discovery MPVs are identical to their U.S. certified counterparts with respect to compliance with Standard Nos. 102 Transmission Shift Lever Sequence, 103 Defrosting and Defogging Systems, 104 Windshield Wiping and Washing Systems, 105 Hydraulic and Electric Brake Systems, 106 Brake Hoses, 113 Hood Latch Systems, 114 Theft Protection, 119 New Pneumatic Tires for Vehicles other than Passenger Cars, 124 Accelerator Control Systems, 135 Passenger Car Brake Systems, 201 Occupant Protection in Interior Impact, 202 Head Restraints, 203 Impact Protection for the Driver from the Steering Control System, 204 Steering Control Rearward Displacement, 205 Glazing Materials, 206 Door Locks and Door Retention Components, 207 Seating Systems, 209 Seat Belt Assemblies, 210 Seat Belt Assembly Anchorages, 212 Windshield Retention, 216 Roof Crush Resistance, 219 Windshield Zone Intrusion, 301 Fuel System Integrity, and 302 Flammability of Interior Materials.

Petitioner states that the vehicles are equipped with an anti-theft system that meets the requirements of the Theft Prevention Standard found in 49 CFR part 541.

Petitioner also contends that the vehicles are capable of being readily altered to meet the following standards, in the manner indicated:

Standard No. 101 Controls and Displays: replacement of the speedometer with a U.S.-model component that reads in miles per hour or recalibration of the unit to read in miles per hour and placement of a label on the odometer face to indicate that it is calibrated in kilometers driven.

Standard No. 108 Lamps, Reflective Devices and Associated Equipment: replacement of the noncompliant headlamps, tail lamps, side markers, and reflectors with U.S.-model components.

Standard No. 111 Rearview Mirror: replacement of the passenger side rearview mirror with a U.S.-model component, or inscription of the required warning statement on the mirror's face.

Standard No. 116 Motor Vehicle Brake Fluid: replacement of the vehicle's brake fluid with fluid that is certified to meet the standard.

Standard No. 118 Power Window Systems: rewiring of the power window system so that the window transport will not operate when the ignition is switched to the “off” position.

Standard No. 120 Tire Selection and Rims for Motor Vehicles other than Passenger Cars: installation of a tire information placard.

Standard No. 208 Occupant Crash Protection: replacement of the seat belt warning indicator with a U.S.-model component. The petitioner states that the vehicle is equipped with U.S.-model seat belts and air bags.

Standard No. 214 Side Impact Protection: inspection of all vehicles and installation of U.S.-model door beams on vehicles that are not already so equipped.

Standard No. 225 Child Restraint Anchorage Systems: installation of U.S.-model tether anchorages.

Petitioner states that all vehicles must be inspected for compliance with the Bumper Standard found in 49 CFR part 581, and that reinforcements will be added to the bumpers of any vehicles that do not already so comply.

In addition, the petitioner states that a vehicle identification number (VIN) plate must be affixed to the driver's side dashboard, and a certification label must be affixed to the latch post nearest the driver to meet the requirements of 49 CFR part 565.

Interested persons are invited to submit comments on the petition described above. Comments should refer to the docket number and be submitted to: Docket Management, Room PL-401, 400 Seventh St., SW, Washington, DC 20590. (Docket hours are from 9 a.m. to 5 p.m.). It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: February 24, 2004.
Kenneth N. Weinstein,
Associate Administrator for Enforcement.

[FR Doc. 04-4398 Filed 2-26-04; 8:45 am]

BILLING CODE 4910-59-P